DEPARTMENT OF HOMELAND SECURITY

Federal Emergency Management Agency

44 CFR Part 67

Final Flood Elevation Determinations

AGENCY: Federal Emergency Management Agency, DHS.

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated on the table below.

ADDRESSES: The final BFEs for each community are available for inspection at the office of the Chief Executive Officer of each community. The respective addresses are listed in the table below.

FOR FURTHER INFORMATION CONTACT: William R. Blanton, Jr., Engineering Management Branch, Mitigation Directorate, Federal Emergency Management Agency, 500 C Street, SW., Washington, DC 20472, (202) 646-3151.

SUPPLEMENTARY INFORMATION: The Federal Emergency Management Agency (FEMA) makes the final determinations listed below for the modified BFEs for each community listed. These modified elevations have been published in newspapers of local circulation and ninety (90) days have elapsed since that publication. The Assistant Administrator of the Mitigation Directorate has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community.The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | * Elevation in feet (NGVD) + Elevation in feet (NAVD) # Depth in feet above ground modified | Communities affected
Bourbon County, Kansas, and Incorporated Areas
Docket No.: FEMA-B-7746
Marmaton River | At the confluence of Mill Creek | +801 | Unincorporated Areas of Bourbon County.
| Approximately 500 feet upstream of Sterwarts Dam | +805
* National Geodetic Vertical Datum.
+ North American Vertical Datum.
# Depth in feet above ground.
ADDRESSES
City of Parsons
Maps are available for inspection at 112 South 17th Street, Parsons, KS 67357.
Unincorporated Areas of Labette County
Maps are available for inspection at 501 Merchant Street, Oswego, KS 67356.
Tate County, Mississippi, and Incorporated Areas
Docket No.: FEMA-D-7822
Arkabutla Reservoir | Arkabutla Reservoir | +245 | Town of Coldwater, Unincorporated Areas of Tate County.
Coldwater River | 0.7 Miles Downstream of Arkabutla Reservoir Dam | +195 | Unincorporated Areas of Tate County.
| At County Boundary | +252
Pidgeon Roost Creek | 0.6 Miles Downstream of Pidgeon Roost Road | +292 | Unincorporated Areas of Tate County.
| 400 Ft. Downstream of Pidgeon Roost Road | +295
* National Geodetic Vertical Datum.
+ North American Vertical Datum.
# Depth in feet above ground.
ADDRESSES
Town of Coldwater
Maps are available for inspection at 444 Court Street, Coldwater, MS 38618.
Unincorporated Areas of Tate County
Maps are available for inspection at 201 Ward Street, Senatobia, MS 38668.
Forsyth County, North Carolina and Incorporated Areas
Docket Nos.: FEMA-D-7630, FEMA-D-7660, FEMA-B-7749
Abbotts Creek | Approximately 600 feet downstream of Shields Road | +886 | Town of Kernersville.
| Approximately 40 feet downstream of Lindsay Street | +921
Abbotts Creek Tributary 2 | Approximately 350 feet upstream of the confluence with Abbotts Creek Approximately 0.4 mile upstream of I-40 Highway | +866 +886 | Unincorporated Areas of Forsyth County, Town of Kernersville.
Abbotts Creek Tributary 2A | At the confluence with Abbotts Creek Tributary 2 | +866 | Town of Kernersville.
| Approximately 1,250 feet upstream of the confluence with Abbotts Creek Tributary 2 | +888
Ader Creek | At the confluence with Lick Creek | +721 | Unincorporated Areas of Forsyth County.
| Approximately 0.4 mile upstream of the confluence with Lick Creek | +732
Bashavia Creek | At the confluence with Yadkin River | +733 | Unincorporated Areas of Forsyth County, Town of Lewisville.
| Approximately 580 feet upstream of Balsom Road (State Road 1455) | +829
Beaver Dam Creek | Approximately 250 feet upstream of the confluence with Muddy Creek | +820 | Village of Tobaccoville.
| Approximately 100 feet downstream of Shore Road (State Road 1632) | +822
Beaver Dam Creek Tributary | At the confluence with Beaver Dam Creek | +821 | Village of Tobaccoville.
| Approximately 800 feet upstream of the confluence with Beaver Dam Creek | +826
Belews Creek | At the Forsyth/Stokes County boundary | +737 | Unincorporated Areas of Forsyth County.
| Approximately 0.8 mile upstream of Old Valley School Road (SR 2024) | +821
Belews Creek Tributary 4 | At the confluence with Belews Creek | +749 | Unincorporated Areas of Forsyth County.
| Approximately 1,500 feet upstream of the confluence with Belews Creek | +758
Belews Creek Tributary 5 | Approximately 750 feet upstream of the confluence with Belews Creek | +786 | Unincorporated Areas of Forsyth County.
| Approximately 1.6 miles upstream of the confluence with Belews Creek | +850
Belews Lake | Entire shoreline | +737 | Unincorporated Areas of Forsyth County.
Berry Branch | Approximately 0.4 mile upstream of Peachtree Street | +781 | City of Winston-Salem.
| Approximately 0.5 mile upstream of Peachtree Street | +784
Bethabara Branch | Approximately 0.7 mile upstream of Bethabara Road | +818 | City of Winston-Salem.
| Approximately 300 feet downstream of Shattalon Drive (State Road 1686) | +822
Bill Branch | Approximately 80 feet upstream of the dam | +784 | Unincorporated Areas of Forsyth County.
| Approximately 0.5 mile upstream of the dam | +785
Blacks Creek | At the confluence with Double Creek | +708 | Unincorporated Areas of Forsyth County.
| Approximately 350 feet upstream of Concord Church Road (State Road 1171) | +716
Blanket Bottom Creek | At the confluence with Yadkin River | +701 | Unincorporated Areas of Forsyth County, Town of Lewisville, Village of Clemmons.
| Approximately 1,950 feet upstream of Kensford Drive | +883
Brushy Fork | At the Forsyth/Davidson County boundary | +850 | Unincorporated Areas of Forsyth County.
| Approximately 20 feet upstream of the Forsyth/Davidson County boundary | +850
Brushy Fork Tributary | Approximately 1,200 feet upstream of the confluence with Brushy Fork Creek | +790 | City of Winston-Salem.
| Approximately 1,850 feet upstream of the confluence with Brushy Fork Creek | +796
Buffalo Creek (into Town Fork Creek) | Approximately 500 feet downstream of the Forsyth/Stokes County boundary | +667 | Unincorporated Areas of Forsyth County.
| Approximately 50 feet upstream of the Forsyth/Stokes County boundary | +668
Buffalo Creek Tributary | At the upstream side of Shiloh Church Road | +740 | Unincorporated Areas of Forsyth County.
| Approximately 0.6 mile upstream of Shiloh Church Road (SR 1932) | +761
Caudle Branch | At the confluence with Yadkin River | +714 | Unincorporated Areas of Forsyth County.
| Approximately 1,040 feet upstream of Hounds Ridge Road | +730
Cloverleaf Branch | Approximately 650 feet upstream of Stadium Drive | +791 | City of Winston-Salem.
| Approximately 210 feet upstream of U.S. Route 421 | +815
Crooked Run Creek | Approximately 480 feet upstream of Meadowbrook Road (SR 1105) | +856 | Unincorporated Areas of Forsyth County, Village of Tobaccoville.
| Approximately 850 feet upstream of the Forsyth/Stokes County boundary | +884
Crooked Run Creek Tributary | At the Forsyth/Stokes County boundary | +935 | Unincorporated Areas of Forsyth County, Village of Tobaccoville.
| Approximately 500 feet upstream of the confluence of Crooked Run Creek Tributary 2 of Tributary | +977
Crooked Run Creek Tributary 1 of Tributary | At the confluence with Crooked Run Creek Tributary | +953 | Unincorporated Areas of Forsyth County, Village of Tobaccoville.
| Approximately 1,100 feet upstream of the confluence with Crooked Run Creek Tributary | +973
Crooked Run Creek Tributary 2 of Tributary | At the confluence with Crooked Run Creek Tributary | +970 | Unincorporated Areas of Forsyth County, Village of Tobaccoville.
| Approximately 1,200 feet upstream of the confluence with Crooked Run Creek Tributary | +986
Dean Creek | Approximately 0.6 mile upstream of Lenbrook Road (SR 2074) | +816 | Unincorporated Areas of Forsyth County.
| Approximately 0.9 mile upstream of Lenbrook Road (SR 2074) | +827
Dean Creek Tributary | Approximately 450 feet upstream of the confluence with Dean Creek | +789 | Unincorporated Areas of Forsyth County.
| Approximately 0.5 mile upstream of the confluence with Dean Creek | +802
Double Creek | At the confluence with Yadkin River | +708 | Unincorporated Areas of Forsyth County.
| Approximately 0.7 mile upstream of the confluence of Blacks Creek | +708
East Belews Creek | At the confluence with Belews Creek | +737 | Unincorporated Areas of Forsyth County, Town of Kernersville.
| Approximately 2.1 miles upstream of Warren Road (SR 2019) | +913
East Belews Creek Tributary 1 | At the confluence with East Belews Creek | +737 | Unincorporated Areas of Forsyth County.
| At the Forsyth/Guilford County boundary | +737
East Belews Creek Tributary 1 of Tributary 1 | At the confluence with East Belews Creek Tributary 1 | +737 | Unincorporated Areas of Forsyth County.
| At the Forsyth/Guilford County boundary | +737
East Belews Creek Tributary 2 | At the confluence with East Belews Creek | +737 | Unincorporated Areas of Forsyth County.
| Approximately 0.7 mile upstream of Benefit Church Road (SR 1970) | +750
Ellison Creek | At the confluence with Yadkin River | +705 | Unincorporated Areas of Forsyth County, Town of Lewisville.
| Approximately 1.1 miles upstream of Styers Ferry Road (State Road 1166) | +720
Fries Branch | At the confluence with Fries Creek | +801 | Unincorporated Areas of Forsyth County.
| Approximately 140 feet upstream of Walker Road (State Road 1470) | +846
Fries Creek | At the confluence with Yadkin River | +739 | Unincorporated Areas of Forsyth County.
| Approximately 0.6 mile upstream of Waller Road (State Road 1470) | +822
Harley Creek | Approximately 350 feet upstream of the confluence with Belews Creek | +759 | Unincorporated Areas of Forsyth County.
| Approximately 1.9 mile upstream of the confluence with Belews Creek | +796
Harmon Mill Creek | Approximately 50 feet downstream side of Masten Drive | +882 | Unincorporated Areas of Forsyth County, Town of Kernersville.
| Approximately 0.4 mile upstream of Masten Drive | +892
Hartley Creek | Approximately 350 feet upstream of the confluence with Belews Creek | +759 | Unincorporated Areas of Forsyth County.
| Approximately 1.9 mile upstream of the confluence with Belews Creek | +796
Hauser Creek | At the confluence with Ellison Creek | +705 | Unincorporated Areas of Forsyth County.
| Approximately 0.9 mile upstream of the confluence with Ellison Creek | +718
Haw River | At the upstream side of Stigall Road | +860 | Unincorporated Areas of Forsyth County.
| Approximately 0.8 mile upstream of Stigall Road | +883
Johnson Creek | At the confluence with Yadkin River | +698 | Unincorporated Areas of Forsyth County, Village of Clemmons.
| Approximately 0.6 mile upstream of Middlebrook Drive | +768
Johnson Creek Tributary | At the confluence with Johnson Creek | +698 | Unincorporated Areas of Forsyth County, Village of Clemmons.
| Approximately 300 feet upstream of Carriagebrook Court | +727
Johnson Creek Tributary 2 | At the confluence with Johnson Creek | +708 | Village of Clemmons.
| Approximately 360 feet upstream of Doublegate Drive | +779
Kansas Branch | At the confluence with Old Field Creek | +715 | Unincorporated Areas of Forsyth County.
| Approximately 1.3 mile upstream of the confluence with Old Field Creek | +890
Kerners Mill Creek | Approximately 700 feet downstream of Southern Street | +929 | Town of Kernersville.
| Approximately 1,560 feet upstream of Southern Street | +954
Kerners Mill Creek Tributary | Approximately 1,000 feet upstream of the confluence with Kerners Mill Creek | +899 | Town of Kernersville.
| Approximately 390 feet upstream of Deere-Hitachi Road | +958
Kings Creek | At the confluence with East Belews Creek | +737 | Unincorporated Areas of Forsyth County.
| At the Forsyth/Guilford County boundary | +737
Leak Branch | Approximately 50 feet downstream of the Forsyth/Stokes County boundary | +703 | Unincorporated Areas of Forsyth County.
| Approximately 1.7 miles upstream of the Forsyth/Stokes County boundary | +878
Left Fork Belews Creek | At the confluence with Belews Creek | +750 | Unincorporated Areas of Forsyth County.
| Approximately 1.2 miles upstream of Rail Fence Road (SR 2009) | +860
Lick Creek | Approximately 700 feet upstream of the confluence of Right Prong Lick Creek | +647 | Unincorporated Areas of Forsyth County.
| At the confluence of Ader Creek | +721
Lick Creek Tributary 1 | At the Forsyth/Stokes County boundary | +647 | Unincorporated Areas of Forsyth County.
| Approximately 1.4 miles upstream of the Forsyth/Stokes County boundary | +685
Lick Creek Tributary 2 | At the confluence with Lick Creek | +678 | Unincorporated Areas of Forsyth County.
| Approximately 750 feet upstream of the confluence with Lick Creek | +687
Little Yadkin River | Approximately 0.8 mile upstream of the confluence with Yadkin River | +765 | Unincorporated Areas of Forsyth County.
| Approximately 0.9 mile upstream of Spainhour Mill Road | +786
Little Yadkin River Tributary near Perch Road | At the confluence with Little Yadkin River | +775 | Unincorporated Areas of Forsyth County.
| Approximately 2,100 feet upstream of the confluence with Little Yadkin River | +775
Little Yadkin River Tributary of Tributary near Perch Road | At the confluence with Little Yadkin River Tributary near Perch Road | +775 | Unincorporated Areas of Forsyth County.
| Approximately 1,000 feet upstream of the confluence with Little Yadkin River Tributary near Perch Road | +800
Lowery Mill Creek | Approximately 1,050 feet downstream of New Walkertown Road/U.S. Highway 311 | +894 | Unincorporated Areas of Forsyth County.
| Approximately 330 feet downstream of New Walkertown Road/U.S. Highway 311 | +901
Mary Reich Creek | At the Forsyth/Davidson County boundary | +811 | Unincorporated Areas of Forsyth County.
| Approximately 0.9 mile upstream of the Forsyth/Davidson County boundary | +835
Mill Creek (into Old Field Creek) | At the confluence with Old Field Creek | +718 | Unincorporated Areas of Forsyth County.
| Approximately 0.5 mile upstream of the confluence with Old Field Creek | +731
Mill Creek No. 3 | Approximately 0.9 mile upstream of Bowens Road (State Road 1625) | +869 | Unincorporated Areas of Forsyth County, Village of Tobaccoville.
| Approximately 840 feet upstream of Tobaccoville Road | +999
Mill Creek Tributary | Approximately 830 feet upstream of East Hanes Mill Road | +824 | City of Winston-Salem.
| Approximately 1,190 feet upstream of East Hanes Mill Road | +830
Mill Creek West | At the confluence with Yadkin River | +730 | Unincorporated Areas of Forsyth County, Town of Lewisville.
| Approximately 0.4 mile upstream of Wyntfield Drive | +822
Muddy Creek | At the downstream side of Interstate 40 | +710 | Unincorporated Areas of Forsyth County, City of Winston-Salem, Village of Clemmons.
| Approximately 0.9 mile upstream of South Peace Haven Road (State Road 1140) | +718
Muddy Creek Tributary | Approximately 200 feet upstream of Cedar Trails | +758 | City of Winston-Salem.
| Approximately 1,000 feet upstream of Cedar Trails | +778
Muddy Creek Tributary 1A | Approximately 400 feet upstream of the confluence with Muddy Creek Tributary | +748 | City of Winston-Salem.
| Approximately 0.4 mile upstream of the confluence with Muddy Creek Tributary | +791
Old Field Creek | Approximately 0.4 mile downstream of Dennis Road (SR 1943) | +653 | Unincorporated Areas of Forsyth County.
| Approximately 0.6 mile upstream of the confluence of Mill Creek (into Old Field Creek) | +757
Old Richmond Creek | At the confluence with Yadkin River | +753 | Unincorporated Areas of Forsyth County.
| Approximately 2.7 miles upstream of Donnaha Road (State Road 1600) | +844
Panther Creek | At the confluence with Double Creek | +708 | Unincorporated Areas of Forsyth County.
| Approximately 0.8 mile upstream of Williams Road (State Road 1173) | +717
Panther Creek Tributary 1 | At the confluence with Panther Creek | +708 | Unincorporated Areas of Forsyth County.
| Approximately 0.6 mile upstream of the confluence with Panther Creek | +723
Parkway Branch | At the confluence with Salem Creek | +742 | City of Winston-Salem.
| Approximately 1,580 feet upstream of South Main Street | +826
Paynes Branch | Approximately 50 feet downstream of the Forsyth/Stokes County boundary | +778 | Unincorporated Areas of Forsyth County.
| Approximately 1.1 miles upstream of the Forsyth/Stokes County boundary | +890
Paynes Branch Tributary | At the Forsyth/Stokes County boundary | +863 | Unincorporated Areas of Forsyth County.
| Approximately 0.5 mile upstream of the Forsyth/Stokes County boundary | +898
Peters Creek | Approximately 1,260 feet upstream of the confluence of North School Branch | +836 | City of Winston-Salem.
| Approximately 1,550 feet upstream of the confluence of North School Branch | +837
Red Bank Creek | At the Forsyth/Stokes County boundary | +694 | Unincorporated Areas of Forsyth County.
| Approximately 3.9 miles upstream of the Forsyth/Stokes County boundary | +904
Reedy Fork | At the Forsyth/Guilford County boundary | +878 | Unincorporated Areas of Forsyth County, Town of Kernersville.
| Approximately 0.6 mile upstream of the Forsyth/Guilford County boundary | +892
Reedy Fork (Stream No. 51) | At the Forsyth/Guilford County boundary | +878 | Unincorporated Areas of Forsyth County, Town of Kernersville.
| Approximately 0.6 mile upstream of the Forsyth/Guilford County boundary | +892
Reynolds Creek | Approximately 1,500 feet upstream of Fairhaven Road | +781 | Town of Lewisville.
| Approximately 0.8 mile upstream of Fairhaven Road | +810
Right Prong Lick Creek | At the confluence with Lick Creek | +651 | Unincorporated Areas of Forsyth County.
| Approximately 0.6 mile upstream of West Road (SR 1954) | +681
Rough Fork | Approximately 1,700 feet upstream of the confluence with Buffalo Creek (into Town Fork Creek) | +705 | Unincorporated Areas of Forsyth County.
| Approximately 1.3 miles upstream of Germanton Road (SR 1725) | +736
Salem Creek | Approximately 100 feet downstream of Ebert Road | +727 | Unincorporated Areas of Forsyth County, City of Winston-Salem.
| Approximately 250 feet upstream of Silas Creek Parkway/NC Highway 67 | +746
Silas Creek | Approximately 0.6 mile upstream of Old Town Club Drive | +889 | City of Winston-Salem.
| Approximately 90 feet downstream of University Parkway | +896
South Fork Muddy Creek | Approximately 350 feet downstream of High Point Road | +877 | Unincorporated Areas of Forsyth County, City of Winston-Salem.
| Approximately 0.8 mile upstream of Temple School Road (State Road 2685) | +935
Spurgeon Creek | At the Forsyth/Davidson County boundary | +819 | Unincorporated Areas of Forsyth County.
| Approximately 0.9 mile upstream of the Davidson/Forsyth County boundary | +847
Terry Road Branch | Approximately 75 feet downstream of Terry Road | +883 | City of Winston-Salem.
| Approximately 300 feet upstream of Salem Gardens Drive | +917
Tomahawk Branch | Approximately 300 feet upstream of Twin Meadows Drive | +784 | Unincorporated Areas of Forsyth County, Town of Lewisville.
| Approximately 300 feet downstream of Robinhood Road | +794
Town Fork Creek | Approximately 100 feet downstream of the Forsyth/Stokes County boundary | +687 | Unincorporated Areas of Forsyth County.
| At the confluence of Leak Branch | +703
Town Fork Creek Tributary 5 | At the confluence with Town Fork Creek | +689 | Unincorporated Areas of Forsyth County.
| Approximately 1,000 feet upstream of the confluence with Town Fork Creek | +705
Town Fork Creek Tributary 6 | At the confluence with Town Fork Creek | +698 | Unincorporated Areas of Forsyth County.
| Approximately 0.6 mile upstream of Par Farm Road | +768
Yadkin River | At the Forsyth/Davidson County boundary | +691 | Unincorporated Areas of Forsyth County, Town of Lewisville, Village of Clemmons.
| Approximately 700 feet upstream of the Forsyth/Surry County boundary | +758
Yadkin River Tributary 4 | At the confluence with Yadkin River | +702 | Unincorporated Areas of Forsyth County, Village of Clemmons.
| Approximately 0.9 mile upstream of the confluence with Yadkin River | +718
Yadkin River Tributary 5 | At the confluence with Yadkin River | +713 | Unincorporated Areas of Forsyth County.
| Approximately 740 feet upstream of Williams Road (State Road 1173) | +732
Yadkin River Tributary 6 | At the confluence with Yadkin River | +723 | Unincorporated Areas of Forsyth County.
| Approximately 0.7 mile upstream of the confluence with Yadkin River | +727
Yadkin River Tributary 7 | At the confluence with Yadkin River | +724 | Unincorporated Areas of Forsyth County.
| Approximately 0.6 mile upstream of the confluence with Yadkin River | +734
Yadkin River Tributary 8 | At the confluence with Yadkin River | +727 | Unincorporated Areas of Forsyth County.
| Approximately 1.0 mile upstream of the confluence with Yadkin River | +731
West Belews Creek | Approximately 0.8 mile downstream of NC-69 | +737 | Unincorporated Areas of Forsyth County.
| Approximately 1 mile upstream of Tyner Road (SR 2008) | +810
West Belews Creek Tributary | At the confluence with West Belews Creek | +767 | Unincorporated Areas of Forsyth County.
| Approximately 1.2 miles upstream of the confluence with West Belews Creek | +799
West Fork Deep River | Approximately 0.7 mile upstream of Interstate 40 | +890 | Unincorporated Areas of Forsyth County, Town of Kernersville.
| Approximately 240 feet downstream of Industrial Park Drive | +903
* National Geodetic Vertical Datum.
+ North American Vertical Datum.
# Depth in feet above ground.
ADDRESSES
City of Winston-Salem
Maps are available for inspection at City of Winston-Salem Inspections Department, 100 East First Street, Suite 328, Winston-Salem, North Carolina.
Town of Kernersville
Maps are available for inspection at Kernersville Town Hall, Planning Department, 134 East Mountain Street, Kernersville, North Carolina.
Town of Lewisville
Maps are available for inspection at Lewisville Town Hall, 6550 Shallowford Road, Lewisville, North Carolina.
Unincorporated Areas of Forsyth County
Maps are available for inspection at Forsyth City/County Planning Board Office, 100 East First Street, Winston-Salem, North Carolina.
Village of Clemmons
Maps are available for inspection at Clemmons Village Hall, 3715 Clemmons Road, Clemmons, North Carolina.
Village of Tobaccoville
Maps are available for inspection at Tobaccoville Village Hall, 6936 Doral Drive, Tobaccoville, North Carolina.

(Catalog of Federal Domestic Assistance No. 97.022, “Flood Insurance.”)

Dated: July 8, 2008.
David I. Maurstad,
Federal Insurance Administrator of the National Flood Insurance Program, Department of Homeland Security, Federal Emergency Management Agency.

[FR Doc. E8-16546 Filed 7-18-08; 8:45 am]

BILLING CODE 9110-12-P